DEPARTMENT OF AGRICULTURE

Forest Service

Newspapers To Be Used for Publication of Legal Notice of Appealable Decisions and Publication of Notice of Proposed Actions for Southern Region; Alabama, Kentucky, Georgia, Tennessee, Florida, Louisiana, Mississippi, Virginia, West Virginia, Arkansas, Oklahoma, North Carolina, South Carolina, Texas, Puerto Rico

AGENCY: Forest Service, USDA.

ACTION: Notice.

SUMMARY: Deciding Officers in the Southern Region will publish notice of decisions subject to administrative appeal under 36 CFR parts 215 and 217 in the legal notice section of the newspaper listed in the Supplementary Information section of this notice. As provided in 36 CFR part 215.5(a) and 36 CFR part 217.5(d), the public shall be advised through Federal Register notice, of the principal newspaper to be utilized for publishing legal notice of decisions. Newspaper publication of notice of decisions is in addition to direct notice of decisions to those who have requested notice in writing and to those known to be interested in or affected by a specific decision. Responsible Officials in the Southern Region will also publish notice of proposed actions under 36 CFR 215 in the newspapers that are listed in the Supplementary Information section of this notice. As provided in 36 CFR part 215.5(a), the public shall be advised, through Federal Register notice, of the principal newspapers to be utilized for publishing notices on proposed actions.

DATES: Use of these newspapers for purposes of publishing legal notice of decisions subject to appeal under 36 CFR parts 215 and 217, and notices of proposed actions under 36 CFR part 215 shall begin on or after the date of this publication.

FOR FURTHER INFORMATION CONTACT: Elaine Cloward, Appeals Specialist, Southern Region, Planning, 1720 Peachtree Road, NW, Atlanta, Georgia 30309, Phone: 404-347-2788.

SUPPLEMENTARY INFORMATION: Deciding Officers in the Southern Region will give legal notice of decisions subject to appeal under 36 CFR part 217 and the Responsible Officials in the Southern Region will give notice of decisions subject to appeal under 36 CFR 215 in the following newspapers which are listed by Forest Service administrative unit. Responsible Officials in the Southern Region will also give notice of proposed actions under 36 CFR part 215 in the following principal newspapers which are listed by Forest Service administrative unit. The timeframe for comment on a proposed action shall be based on the date of publication of the notice of the proposed action in the principal newspaper. The timeframe for appeal shall be based on the date of publication of the legal notice of the decision in the principal newspaper for both 36 CFR parts 215 and 217.

Where more than one newspaper listed for any unit, the first newspaper listed is the principal newspaper that will be utilized for publishing the legal notice of decisions. Additional newspapers listed for a particular unit are those newspapers the Deciding Officer expects to use for purposes of providing additional notice. The timeframe for appeal shall be based on the date of publication of the legal notice of the decision in the principal newspaper.

The following newspapers will be used to provide notice.

Southern Region

Regional Forester Decisions

Affecting National Forest System lands in more than one state of the 14 states of the Southern Region and the Commonwealth of Puerto Rico Atlanta Journal, published daily in Atlanta, GA.

Affecting National Forest System lands in only one state of the 14 states of the Southern Region and the Commonwealth of Puerto Rico or only one Ranger District will appear in the principal newspaper elected by the National Forest of that state or Ranger District.

National Forests in Alabama, Alabama

Forest Supervisor Decisions

Montgomery Advertiser, published daily in Montgomery, AL

District Ranger Decisions

Bankhead Ranger District

Northwest Alabamian, published bi-weekly (Wednesday & Saturday) in Haleyville, AL

Conecuh Ranger District

The Andalusia Star News, published daily (Tuesday through Saturday) in Andalusia, AL

Oakmulgee Ranger District

The Tuscaloosa News, published daily in Tuscaloosa, AL

Shoal Creek Ranger District

The Anniston Star, published daily in Anniston, AL

Talladega Ranger District

The Daily Home, published daily in Talladega, AL

Tuskegee Ranger District

Tuskegee News, published weekly (Thursday) in Tuskegee, AL

Caribbean National Forest, Puerto Rico

Forest Supervisor Decisions

El Nuevo Dia, published daily in Spanish in San Juan, PR

San Juan Star, published daily in English in San Juan, PR

Chattahoochee-Oconee National Forest, Georgia

Forest Supervisor Decisions

The Times, published daily in Gainesville, GA

District Ranger Decisions

Armuchee Ranger District

Walker County Messenger, published bi-weekly (Wednesday & Friday) in LaFayette, GA

Toccoas Ranger District

The News Observer (primary) published bi-weekly (Tuesday & Friday) in Blue Ridge, GA

The Dashlonega Nuggett, (additional) published weekly (Wednesday) in Dahlonega, GA

Brasstown Ranger District

North Georgia News, (primary) published weekly (Wednesday) in Blairsville, GA

Towns County Herald, (additional) published weekly (Thursday) in Hiawassee, GA

The Dahlonega Nuggett, (additional) published weekly (Wednesday) in Dahlonega, GA

Tallulah Ranger District

Clayton Tribune, published weekly (Thursday) in Clayton, GA

Chattooga Ranger District

Northeast Georgian, (primary) published bi-weekly (Tuesday & Friday) in Cornelia, GA

Chieftain & Toccoa Record, (additional) published bi-weekly (Tuesday & Friday) in Toccoa, GA

White County News Telegraph, (additional) published weekly (Thursday) in Cleveland, GA

The Dahlonega Nuggett, (additional) published weekly (Thursday) in Dahlonega, GA

Cohutta Ranger District

Chatsworth Times, published weekly (Wednesday) in Chatsworth, GA

Oconee Ranger District

Eatonton Messenger, published weekly (Thursday) in Eatonton, GA

Cherokee National Forest, Tennessee

Forest Supervisor Decisions

Knoxville News Sentinel, published daily in Knoxville, TN

District Ranger Decisions

Ocoee-Hiwassee Ranger District

Polk County News, published weekly (Wednesday) in Benton, TN

Tellico Ranger District

Monroe County Advocate, published tri-weekly (Wednesday, Friday, and Sunday) in Sweetwater, TN

Nolichucky-Unaka Ranger District

Greeneville Sun, published daily (except Sunday) in Greeneville, TN

Watauga Ranger District

Johnson City Press, published daily in Johnson City, TN

Daniel Boone National Forest, Kentucky

Forest Supervisor Decisions

Lexington Herald-Leader, published daily in Lexington, KY

District Ranger Decisions

Morehead Ranger District

Morehead News, published bi-weekly (Tuesday and Friday) in Morehead, KY

Stanton Ranger District

The Clay City Times, published weekly (Thursday) in Stanton, KY

London Ranger District

The Sentinel-Echo, published tri-weekly (Monday, Wednesday, and Friday) in London, KY

Somerset Ranger District

Commonwealth-Journal, published daily (Sunday through Friday) in Somerset, KY

Stearns Ranger District

McCreary County Record, published weekly (Tuesday) in Whitley City, KY

Redbird Ranger District

Manchester Enterprise, published weekly (Thursday) in Manchester, KY

National Forests in Florida, Florida

Forest Supervisor Decisions

The Tallahassee Democrat, published daily in Tallahassee, FL

District Ranger Decisions

Apalachicola Ranger District

The Liberty Journal, published weekly (Wednesday) in Bristol, FL

Lake George Ranger District

The Ocala Star Banner, published daily in Ocala, FL

Osceola Ranger District

The Lake City Reporter, published daily (Monday-Saturday) in Lake City, FL

Seminole Ranger District

The Daily Commercial, published daily in Leesburg, FL

Wakulla Ranger District

The Tallahassee Democrat, published daily in Tallahassee, FL

Francis Marion & Sumter National Forest, South Carolina

Forest Supervisor Decisions

The State, published daily in Columbia, SC

District Ranger Decisions

Enoree Ranger District

Newberry Observer, published tri-weekly (Monday, Wednesday, and Friday) Newberry, SC

Andrew Pickens Ranger District

The Daily Journal, published daily in Seneca, SC

Long Cane Ranger District

The Augusta Chronicle, published daily in Augusta, GA

Wambaw Ranger District

Post and Courier, published daily in Charleston, SC

Witherbee Ranger District

Post and Courier, published daily in Charleston, SC

George Washington and Jefferson National Forests, Virginia and West Virginia

Forest Supervisor Decisions

Roanoke Times, published daily in Roanoke, VA

District Ranger Decisions

Lee Ranger District

Shenandoah Valley Herald, published weekly (Wednesday) in Woodstock, VA

Warm Springs Ranger District

The Recorder, published weekly (Thursday) in Monterey, VA

James River Ranger District

Virginian Review, published daily (except Sunday) in Covington, VA

Deerfield Ranger District

Daily News Leader, published daily in Staunton, VA

Dry River Ranger District

Daily News Record, published daily (except Sunday) in Harrisonburg, VA

New River Ranger District

Roanoke Times, published daily in Roanoke, VA

Glenwood/Pedlar Ranger District

Roanoke Times, published daily in Roanoke, VA

New Castle Ranger District

Roanoke Times, published daily in Roanoke, VA

Mount Rogers National Recreation Area

Bristol Herald Courier, published daily in Bristol, VA

Clinch Ranger District

Kingsport-Times News, published daily in Kingsport, TN

Kisatchie National Forest, Louisiana

Forest Supervisor Decisions

The Town Talk, published daily in Alexandria, LA

District Ranger Decisions

Caney Ranger District

Minden Press Herald, (primary) published daily in Minden, LA

Homer Guardian Journal, (additional) published weekly (Wednesday) in Homer, LA

Catahoula Ranger District

The Town Talk, published daily in Alexandria, LA

Calcasieu Ranger District

The Town Talk, (primary) published daily in Alexandria, LA

The Leesville Ledger, (additional) published tri-weekly (Tuesday, Friday, and Sunday) in Leesville, LA

Kisatchie Ranger District

Natchitoches Times, published daily (Tuesday thru Friday and on Sunday) in Natchitoches, LA

Winn Ranger District

Winn Parish Enterprise, published weekly (Wednesday) in Winnfield, LA

Land Between the Lakes National Recreation Area, Kentucky and Tennessee

Area Supervisor Decisions

The Paducah Sun, published daily in Paducah, KY

National Forests in Mississippi, Mississippi

Forest Supervisor Decisions

Clarion-Ledger, published daily in Jackson, MS

District Ranger Decisions

Bienville Ranger District

Clarion-Ledger, published daily in Jackson, MS

Chickasawhay Ranger District

Clarion-Ledger, published daily in Jackson, MS

Delta Ranger District

Clarion-Ledger, published daily in Jackson, MS

De Soto Ranger District

Clarion-Ledger, published daily in Jackson, MS

Holly Springs Ranger District

Clarion-Ledger, published daily in Jackson, MS

Homochitto Ranger District

Clarion-Ledger, published daily in Jackson, MS

Tombigbee Ranger District

Clarion-Ledger, published daily in Jackson, MS

National Forests in North Carolina, North Carolina

Forest Supervisor Decisions

The Asheville Citizen-Times, published daily in Asheville, NC

District Ranger Decisions

Appalachian Ranger District

The Asheville Citizen-Times, published daily in Asheville, NC

Cheoah Ranger District

Graham Star, published weekly (Thursday) in Robbinsville, NC

Croatan Ranger District

The Sun Journal, published daily (except Saturday) in New Bern, NC

Grandfather Ranger District

McDowell News, published daily in Marion, NC

Highlands Ranger District

The Highlander, published weekly (mid May-mid Nov Tues & Fri; mid Nov-mid May Tues only) in Highlands, NC

Pisgah Ranger District

The Asheville Citizen-Times, published daily in Asheville, NC

Tusquitee Ranger District

Cherokee Scout, published weekly (Wednesday) in Murphy, NC

Uwharrie Ranger District

Montgomery Herald, published weekly (Wednesday) in Troy, NC

Wayah Ranger District

The Franklin Press, published bi-weekly (Tuesday and Friday) in Franklin, NC

Ouachita National Forest, Arkansas and Oklahoma

Forest Supervisor Decisions

Arkansas Democrat-Gazette, published daily in Little Rock, AR

District Ranger Decisions

Caddo Ranger District

Arkansas Democrat-Gazette, published daily in Little Rock, AR

Fourche Ranger District

Arkansas Democrat-Gazette, published daily in Little Rock, AR

Jessieville/Winona Ranger District

Arkansas Democrat-Gazette, published daily in Little Rock, AR

Mena/Oden Ranger District

Arkansas Democrat-Gazette, published daily in Little Rock, AR

Poteau/Cold Springs Ranger District

Arkansas Democrat-Gazette, published daily in Little Rock, AR

Womble Ranger District

Arkansas Democrat-Gazette, published daily in Little Rock, AR

Choctaw Ranger District

Tulsa World, published daily in Tulsa, OK

Kiamichi Ranger District

Tulsa World, published daily in Tulsa, OK

Tiak Ranger District

Tulsa World, published daily in Tulsa, OK

Ozark-St. Francis National Forest, Arkansas

Forest Supervisor Decisions

The Courier, published daily (Tuesday through Sunday) in Russellville, AR

District Ranger Decisions

Sylamore Ranger District

Stone County Leader, published weekly (Tuesday) in Mountain View, AR

Buffalo Ranger District

Newton County Times, published weekly in Jasper, AR

Bayou Ranger District

The Courier, published daily (Tuesday through Sunday) in Russellville, AR

Pleasant Hill Ranger District

Johnson County Graphic, published weekly (Wednesday) in Clarksville, AR

Boston Mountain Ranger District

Southwest Times Record, published daily in Fort Smith, AR

Magazine Ranger District

Southwest Times Record, published daily in Fort Smith, AR

St. Francis Ranger District

The Daily World, published daily (Sunday through Friday) in Helena AR

National Forests and Grasslands in Texas, Texas

Forest Supervisor Decisions

The Lufkin Daily News, published daily in Lufkin, TX

District Ranger Decisions

Angelina National Forest

The Lufkin Daily News, published daily in Lufkin, TX

Davy Crockett National Forest

The Lufkin Daily News, published daily in Lufkin, TX

Sabine National Forest

The Lufkin Daily News, published daily in Lufkin, TX

Sam Houston National Forest

The Courier, published daily in Conroe, TX

Caddo & LBJ National Grasslands

Denton Record-Chronicle, published daily in Denton, TX

Dated May 30, 2002.
R. Gary Pierson,
Acting Deputy Regional Forester, NR.

[FR Doc. 02-14158 Filed 6-5-02; 845 am]

BILLING CODE 3410-11-M